DEPARTMENT OF COMMERCE

National Oceanic and Atmospheric Administration

RIN 0648-XE676

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Puerto Rico's Department of Natural and Environmental Resources (PR DNER). If granted, the EFP would authorize the PR DNER to conduct two projects in waters of the Puerto Rico exclusive economic zone (EEZ) to collect fishery-independent data on the abundance, distribution, and reproductive condition of reef fish in eastern and western Puerto Rico. For the first project, the EFP would authorize the PR DNER to harvest reef fish by hook-and-line and bottom longline gear off both the west and east coasts of Puerto Rico. All reef fish, including undersized and seasonally prohibited reef fish species, would be retained, except for goliath grouper, Nassau grouper, and all species of parrotfish. The purpose of the EFP for the first project is to determine spatial and temporal variations in stock abundance of Caribbean reef fish resources off Puerto Rico.

The second project in the EFP would authorize the PR DNER to collect various species of recreationally important reef fish by spear gun and hook-and-line fishing in Federal waters off the west coast of Puerto Rico. The purpose of the second project is to obtain information about the annual reproductive cycle and minimum size of sexual maturation of the collected reef fish species.

DATES: Comments must be received no later than July 28, 2016.

ADDRESSES: You may submit comments on the application by either of the following methods:

• Email: Maria.Lopez@noaa.gov. Include in the subject line of the email comment the following document identifier: “PR DNER_EFP 2016”.

• Mail: Maria del Mar Lopez, Southeast Regional Office, NMFS, 263 13th Avenue South, St. Petersburg, FL 33701.

The application and related documents are available for review upon written request to any of the above addresses.

FOR FURTHER INFORMATION CONTACT: Maria del Mar Lopez, telephone: 727-824-5305, email: Maria.Lopez@noaa.gov.

SUPPLEMENTARY INFORMATION: The EFP is requested under the authority of the Magnuson-Stevens Fishery Conservation and Management Act (16 U.S.C. 1801 et seq.), and regulations at 50 CFR 600.745(b) concerning exempted fishing.

The proposed collection for scientific research involves activities that would otherwise be prohibited by regulations at 50 CFR part 622, as they pertain to Caribbean reef fish managed by the Caribbean Fishery Management Council (Council). The EFP would exempt this research activity from Federal regulations at § 622.435(a) (Seasonal and area closures), § 622.436 (Size limits), and § 622.437 (Bag limits).

This action involves activities covered by regulations implementing the Fishery Management Plan for the Reef Fish Fishery of Puerto Rico and the U.S. Virgin Islands. The applicant requests authorization to collect reef fish species through two projects in the Federal waters off the east and west coasts of Puerto Rico. Specimens would be collected by commercial fishermen contracted through the PR DNER, by PR DNER research vessels, and by private vessels contracted by the PR DNER. The applicant has requested the EFP for both projects to be effective from the date of EFP issuance through May 31, 2018.

The first project would continue the collection of information on reef fish abundance and distribution in Federal waters off eastern and western Puerto Rico as part of the ongoing Southeast Area Monitoring and Assessment Program-Caribbean (SEAMAP-C) Reef Fish Monitoring Project that has recently undergone survey protocol revisions. Research in Federal waters would consist of harvesting reef fish at approximately 20 stations in the EEZ off the west coast of Puerto Rico, west of 67°00′00″ W. long., and approximately at 10 stations in the EEZ off the east coast of Puerto Rico, from the Fajardo coast to north of Culebra Island and east of Vieques Island. Stations and sampling dates for this first project would be randomly selected. Sampling would be conducted by (1) bottom longline fishing, (2) hook-and-line gear, and (3) underwater cameras to identify and quantify reef fish species. The hook-and-line gear sampling would take place while EFP authorized vessels are both drifting and anchored. Species expected to be caught and landed for the EFP include federally managed schoolmaster, lane, vermilion, yellowtail, mutton, silk, and blackfin snappers; and red hind, coney, graysby, yellowfin, yellowedge, red, tiger, and black groupers. All reef fish, including undersized and seasonally prohibited species, would be retained, except for goliath grouper, Nassau grouper, and all species of parrotfish. The EFP for the first project would allow the following estimated amounts of these species groups to be harvested: A total of 240 lb (108 kg) of red hind grouper, a total of 100 lb (45 kg) of yellowfin, red, tiger, black (Grouper Unit 4) and yellowedge (Part of Grouper Unit 5) groupers, a total of 100 lb (45 kg) of silk, black, blackfin, and vermilion snappers (Snapper Unit 1), and a total of 600 lb (272 kg) of mutton, lane, gray, and schoolmaster snappers (Snapper Unit 3). Harvest of these reef fish species may occur during their respective spawning seasonal closure periods as described at 50 CFR 622.435. The EFP would allow the harvest of 500 lb (227 kg) of yellowtail snapper, which may include fish under the legal minimum size of 12 in (30.5 cm), total length. Fish collected in the first project would also provide some of the samples to be used in the second project that is part of this EFP request.

The bottom longline fishing component of the first project would occur at randomly selected stations at 0-10, 11-20, and 21-50 fathoms. There would be approximately 20 stations in the EEZ off the west coast and approximately 10 stations in the EEZ off the east coast of Puerto Rico. The sampling stations and dates of sampling would be randomly selected by the PR DNER and may also vary according to weather and sampling logistics. Sampling may occur during closed seasons in Federal waters or in areas closed to certain fishing activities. Sampling in the first project would occur between the hours of 5:30 a.m. and 5:30 p.m., local time. The bottom longline would be anchored at each end, with surface buoys attached to allow retrieval and identification. Circle hooks would be used for the bottom longline gear and the gear would soak for 45 minutes for each sample, after which it would be retrieved and the reef fish collected. The bottom longline would be set to minimize any impacts to bottom habitat by avoiding coral reefs and by fastening small buoys at intervals between hooks to ensure the line remains suspended above the bottom to avoid entanglement. For each bottom longline trip, the following data would be recorded: Date; time of first and last hook deployment and recovery; station code; latitude and longitude; fishing time to the nearest minute; weather conditions; depth; total number of hooked fished per vessel; number, weight, length, reproductive condition, and species level identification of fish by individual longline set; and substrate and/or habitat type.

The hook-and-line sampling for the first project would take place while project vessels are both drifting and an anchored. For each hook-and-line samples, sample locations will be selected based on depth and habitat criteria for both the west and east coasts of Puerto Rico. Hook-and-line gear stations would occur at 0-10, 11-20, and 21-50 fathoms. Each sampling area would be sampled twice during the period of the EFP and there would be approximately 20 stations in the Federal waters off the west coast and 10 stations in the Federal waters off the east coast of Puerto Rico. Sampling station and date of sample would be randomly selected and may also vary according to weather and sampling logistics. The hook-and-line gear sampling for the first project would consist of 2 hours drifting and 2 hours anchored. The hook-and-line sampling to occur while anchored would be conducted for 30 minutes at 4 different sampling stations. The hook-and-line fishing while the vessels are drifting would be conducted in 15-minute intervals near the anchor sampling stations for up to a total of 2 hours per sampling site. For each hook-and-line trip, the following data would be recorded: Date, time of EFP vessel trips; station location (latitude and longitude); fishing time for hook-and-line gear to the nearest 15 minutes; weather conditions; depth; total number of hooked fished per vessel; number, weight, length, reproductive condition, and identification of reef fish per hook-and-line; and stratified habitat type or substrate type.

As part of the first project, a camera survey would be also be used to develop a procedure that would allow for reef fish species identification, counts, and size measurements. There would be a total of approximately 60 camera sampling trips to cover the randomly pre-selected stations for the east and west coasts of Puerto Rico. The camera array would be deployed for 60 minutes at sites near those of the bottom longline fishing sites.

The second project requested as part of this EFP would employ histological methods to describe the annual reproductive cycle and minimum size at maturity of mutton snapper, red hind, coney, white grunt, tomtate, and pluma porgy in waters off the west coast of Puerto Rico. Gonads would be collected from these species and preserved for histological analysis of species by the PR DNER. Information obtained as part of this study would potentially allow for determination of sex, reproductive stage, spawning season, and size of maturity of the collected reef fish species. Sampling for this second project would consist of approximately 10 trips in the Federal waters off the west coast of Puerto Rico. Twice per month, PR DNER contracted fishers would use hook-and-line gear and spear guns to collect a minimum of 25 samples per trip of each of the second project's reef fish species, covering a wide size range of these species. Fishing would be conducted for 6-10 hours on a sampling day. Fish samples would be collected mainly by contracted fishermen. Any other species incidentally caught by hook-and-line fishers would be released, including Nassau and goliath groupers, and all species of parrotfish.

For this second project, the EFP would allow the collection of a total of 150 lb (68 kg) of red hind during their closed spawning season of December 1 through the last day of February in Caribbean EEZ waters west of 67°10′00″ W. long.; and the collection of a total of 150 lb (68 kg) of mutton snapper, which may occur during its seasonal closure, which runs from April 1 through June 30 in the Caribbean EEZ. After being harvested and sampled, all reef fish that were collected would be donated to a local zoo.

The NMFS New Procedures and Actions for Incidental Takes of Marine Mammals in Research and Monitoring Activities policy, approved in 2015, would be followed in the event of any incidental captures of marine mammals. Anchoring in Federal waters to conduct fishing activities would occur up to a maximum of 10 times in areas that do not affect corals. Anchoring and fishing activities would not take place in the spawning aggregation managed areas of Bajo de Sico, Tourmaline, or Abrir La Sierra, west of Puerto Rico.

For both projects of the EFP, samples would be collected aboard research vessels owned by PR DNER and aboard private vessels contracted by the PR DNER. These vessels will be operated by PR DNER personnel or commercial fishermen and/or boat operators under contract with PR DNER. Each research vessel's home port is located in Puerto Rico.

NMFS finds this application warrants further consideration, based on a preliminary review. Possible conditions the agency may impose on this permit, if it is indeed granted, include but are not limited to, a prohibition on conducting research within marine protected areas, marine sanctuaries, or special management zones, without additional authorization. Additionally, NMFS would require any sea turtles taken incidentally during the course of fishing or scientific research activities to be handled with due care to prevent injury to live specimens, observed for activity, and returned to the water. A final decision on issuance of the EFP will depend on NMFS' review of public comments received on the application, consultations with the affected state(s), the Council, and the U.S. Coast Guard, and a determination that it is consistent with all applicable laws.

Authority: 16 U.S.C. 1801 et seq.

Dated: June 22, 2016.
Alan D. Risenhoover,
Director, Office of Sustainable Fisheries, National Marine Fisheries Service.

[FR Doc. 2016-15154 Filed 6-27-16; 8:45 am]

BILLING CODE 3510-22-P